DEPARTMENT OF THE TREASURY

Submission for OMB Review; Comment Request

October 17, 2013.

The Department of the Treasury will submit the following information collection requests to the Office of Management and Budget (OMB) for review and clearance in accordance with the Paperwork Reduction Act of 1995, Public Law 104-13, on or after the date of publication of this notice.

DATES: Comments should be received on or before November 21, 2013 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8141-D, Washington, DC 20220, or email at PRA@treasury.gov.

FOR FURTHER INFORMATION CONTACT: Copies of the submission(s) may be obtained by calling (202) 622-1295, email at PRA@treasury.gov, or the entire information collection request may be found at www.reginfo.gov.

Financial Crimes Enforcement Network (FinCEN)

OMB Number: 1506-0036.

Type of Review: Extension without change of a currently approved collection.

Title: Imposition of Special Measure Against Commercial Bank of Syria, Including its Subsidiary, Syrian Lebanese Commercial Bank, as a Financial Institution of Primary Money Laundering Concern.

Abstract: This information will be used to verify compliance by financial institutions with the requirements to notify their correspondent account holders.

Affected Public: Private Sector: Businesses or other for-profits.

Estimated Annual Burden Hours: 5,000.

OMB Number: 1506-0050.

Type of Review: Extension without change of a currently approved collection.

Title: Administrative Rulings.

Abstract: These sections address administrative rulings under the Bank Secrecy Act. They explain how to submit a ruling request (1010.711), how nonconforming requests are handled (1010.712), how oral communications are treated (1010.713), how rulings are issued (1010.715), how rulings are modified or rescinded (1010.716), and how information may be disclosed (1010.717).

Affected Public: Private Sector: Not-for-profit institutions; businesses or other for-profits.

Estimated Annual Burden Hours: 60.

Dawn D. Wolfgang,
Treasury PRA Clearance Officer.

[FR Doc. 2013-24628 Filed 10-21-13; 8:45 am]

BILLING CODE 4810-25-P